FEDERAL COMMUNICATIONS COMMISSION

Radio Broadcasting Services; AM or FM Proposals To Change The Community of License

AGENCY: Federal Communications Commission.

ACTION: Notice.

DATES: The agency must receive comments on or before February 26, 2018.

ADDRESSES: Federal Communications Commission, 445 Twelfth Street SW, Washington, DC 20554.

FOR FURTHER INFORMATION CONTACT: Rolanda F. Smith, 202-418-2054.

SUPPLEMENTARY INFORMATION: The following applicants filed AM or FM proposals to change the community of License: EDUCATIONAL MEDIA FOUNDATION; WUKV, Channel 202A, To NEW BOSTON, OH; From PORTSMOUTH, OH, File No. BPED-20171013AGU; Facility ID No. 65508; TEXAS PUBLIC RADIO; KTPR, Channel 210C1, To STANTON, TX; From SNYDER, TX, File No. BPED-20171115AAW; Facility ID No. 172898; GOLDEN ISLES BROADCASTING, LLC; WSSI, Channel 224C3; To DARIEN, GA; From ST. SIMONS ISLAND, GA; File No. BPH-20171004ABF; Fac ID. No. 36929; UNIVERSITY OF UTAH; KUQU, Channel 230C; To ENOCH, UT; From PAROWAN, UT; File No. BPH-20171127AAV; Fac ID. No. 170181; COLT COMM PARTNERSHIP; KKCA, Channel 239A; To ARVIN, CA; From LAKE ISABELLA, CA; File No. BMPH-20171012ADO; Fac ID. No. 198792; EDUCATIONAL MEDIA FOUNDATION; WPAY-FM, Channel 281C0; To PORTSMOUTH, OH; From NEW BOSTON, OH; File No. BPED-20171013AGT; Fac ID. No. 54813; BETTER PUBLIC BROADCASTING ASSOCIATION; KLXM, Channel 285C3; To BURNS FLAT, OK; From WEATHERFORD, OK; File No. BPED-20171002AAH; Fac ID No. 184961; R & B COMMUNICATIONS, INC; WWTM, 1400 kHz; To MOORESVILLE, AL; From DECATUR, AL; File No. BP-20170711AAQ; Fac ID. No. 54328; SUN VALLEY MEDIA GROUP, LLC; KPTO, 1440 kHz; To HAILEY, ID; From POCATELLO, ID; File No. BP-20170531ABF; Fac ID. No. 12963; and MOBILE RADIO PARTNERS, INC.; WBTL, 1540 kHz; To SANDSTON, VA; From RICHMOND, VA, File No. BP-2071106AAQ; Fac ID. No. 21434.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2017-27739 Filed 12-22-17; 8:45 am]

BILLING CODE 6712-01-P